DEPARTMENT OF JUSTICE

Notice of Lodging of Proposed Consent Decree Under the Clean Water Act

On March 23, 2018, the Department of Justice lodged a proposed Consent Decree with the United States District Court for the Southern District of Georgia in the lawsuit entitled United States v. Magnolia Valley Plantation, LLC, Magnolia Valley, LLC, and Magnolia Hills, LLC, Civil Action No. 1:18-cv-00055-JRH-BKE.

The Consent Decree resolves the United States' claims set forth in the complaint against Magnolia Valley Plantation, LLC, Magnolia Valley, LLC, and Magnolia Hills, LLC (“Defendants”) for violations of the Clean Water Act (“CWA”) in connection with (1) Defendants' alleged failure to comply with applicable General Permits issued by the State of Georgia pursuant to CWA Section 402, 42 U.S.C. 1342, and for Defendants' alleged discharge of pollutants in storm water from a construction site comprised of the Magnolia Valley Plantation and Magnolia Hills (f/k/a Magnolia Valley) developments (together, the “Site”) in Evans, Columbia County, Georgia, and (2) Defendants' alleged violations of CWA Section 301, 42 U.S.C. 1311, for the alleged discharge of pollutants from the Site into waters of the United States without permits issued pursuant to CWA Section 404, 42 U.S.C. 1344.

Under the Consent Decree, Defendants, with signatory Aaron W. Sullivan, have agreed to pay a civil penalty of $45,000 and pay $60,000 to purchase wetlands credits. Defendants also have agreed to implement injunctive relief, including (1) for the Site: Ensuring that best management practices (“BMPs”) are implemented and maintained, BMP failures are reported and corrected, and (2) for all future sites: Ensuring that BMPs are implemented and maintained, BMP failures are reported and corrected, and both internal and third-party oversight and reporting are implemented.

The publication of this notice opens a period for public comment on the Consent Decree. Comments should be addressed to the Assistant Attorney General, Environment and Natural Resources Division and should refer to United States v. Magnolia Valley Plantation, LLC, Magnolia Valley, LLC, and Magnolia Hills, LLC, D.J. Ref. No. 90-5-1-1-11410. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ-ENRD, P.O. Box 7611, Washington, DC 20044-7611.

Please enclose a check or money order for $19.25 (25 cents per page reproduction cost) payable to the United States Treasury. For a paper copy without the exhibits and signature pages, the cost is $14.25.

Henry Friedman,
Assistant Section Chief, Environmental Enforcement Section, Environment and Natural Resources Division.

[FR Doc. 2018-06584 Filed 4-2-18; 8:45 am]

BILLING CODE 4410-15-P